DEPARTMENT OF ENERGY

Federal Energy Regulatory Commission

Combined Notice of Filings #1

June 23, 2009.

Take notice that the Commission received the following exempt wholesale generator filings:

Docket Numbers: EG09-49-000.

Applicants: Blackstone Wind Farm, LLC.

Description: Supplement to Notice of Self-Certification of Exempt Wholesale Generator Status of Blackstone Wind Farm, LLC.

Filed Date: 06/19/2009.

Accession Number: 20090619-5063.

Comment Date: 5 p.m. Eastern Time on Friday, July 10, 2009.

Take notice that the Commission received the following electric rate filings:

Docket Numbers: ER01-1403-010; ER01-2968-011; ER01-845-009; ER04-366-008; ER05-1122-007; ER06-1443-006; ER08-107-004.

Applicants: FirstEnergy Operating Companies, Pennsylvania Power Company, Jersey Central Power & Light Co., FirstEnergy Solutions Corp., FirstEnergy Generation Corporation, FirstEnergy Nuclear Generation Corporation, FirstEnergy Generation Mansfield Unit 1.

Description: Supplement of FirstEnergy Service Company to Triennial Market Power Update Analysis of FirstEnergy Operating Companies, et al.

Filed Date: 06/17/2009.

Accession Number: 20090617-5175.

Comment Date: 5 p.m. Eastern Time on Wednesday, July 08, 2009.

Docket Numbers: ER03-533-004; ER03-762-012.

Applicants: Alliant Energy Corporate Services, Inc., Alliant Energy Neenah, LLC.

Description: Alliant Energy Corporate Services, Inc et al submits revised application and market power study to replace those submitted to the Commission on 1/5/08 & 5/14/09.

Filed Date: 06/19/2009.

Accession Number: 20090622-0167.

Comment Date: 5 p.m. Eastern Time on Friday, July 10, 2009.

Docket Numbers: ER08-283-003.

Applicants: New York Independent System Operator, Inc.

Description: New York Independent System Operator, Inc submits response to request for additional information set forth in FERC 5/29/09 deficiency letter.

Filed Date: 06/19/2009.

Accession Number: 20090622-0165.

Comment Date: 5 p.m. Eastern Time on Friday, July 10, 2009.

Docket Numbers: ER08-314-002.

Applicants: Bicent (California) Malburg, LLC.

Description: Bicent (California) Malburg, LLC submits FERC Electric Tariff, Original Volume No 1, Substitute First Revised Sheet No 1 and Sub First Revised Sheet No 2.

Filed Date: 06/19/2009.

Accession Number: 20090622-0164.

Comment Date: 5 p.m. Eastern Time on Friday, July 10, 2009.

Docket Numbers: ER08-580-002.

Applicants: Ontario Power Generation Energy Trading, Inc.

Description: Updated Market Power Study for Central (MISO) Region of Ontario Power Generation Energy Trading, Inc.

Filed Date: 06/23/2009.

Accession Number: 20090623-5053.

Comment Date: 5 p.m. Eastern Time on Tuesday, July 14, 2009.

Docket Numbers: ER08-1410-003.

Applicants: PacifiCorp.

Description: PacifiCorp submits a compliance filing et al.

Filed Date: 06/22/2009.

Accession Number: 20090623-0082.

Comment Date: 5 p.m. Eastern Time on Monday, July 13, 2009.

Docket Numbers: ER09-241-002.

Applicants: California Independent System Operator Corporation.

Description: The California Independent System Operator Corporation submits Substitute First Revised Sheet 538B et al. to FERC Electric Tariff, Fourth Replacement Volume 1.

Filed Date: 06/22/2009.

Accession Number: 20090623-0078.

Comment Date: 5 p.m. Eastern Time on Monday, July 13, 2009.

Docket Numbers: ER09-865-001; ER09-866-001; ER00-814-007.

Applicants: Allegheny Energy Supply Company, LLC.

Description: Allegheny Energy Supply Company, LLC submits First Revised Sheet 2 et al. to FERC Electric Tariff, Second Revised Volume 1, effective 6/1/09.

Filed Date: 06/22/2009.

Accession Number: 20090623-0079.

Comment Date: 5 p.m. Eastern Time on Monday, July 13, 2009.

Docket Numbers: ER09-1146-001.

Applicants: Lafarge Midwest, Inc.

Description: Lafarge Midwest, Inc submits supplemental information to its application for market based rates, request for blanket authorization, et al.

Filed Date: 06/15/2009.

Accession Number: 20090617-0003.

Comment Date: 5 p.m. Eastern Time on Monday, July 06, 2009.

Docket Numbers: ER09-1207-001.

Applicants: P.H. Glatfelter Company.

Description: PH Glatfelter Company submits Substitute Original Sheet 1 et al. to FERC Electric Tariff, Original Volume 1, to be effective 7/29/09.

Filed Date: 06/22/2009.

Accession Number: 20090623-0077.

Comment Date: 5 p.m. Eastern Time on Monday, July 13, 2009.

Docket Numbers: ER09-1314-000.

Applicants: NorthWestern Corporation.

Description: NorthWestern Corporation submits an amendment to its Montana Open Access Transmission Tariff to add a new Schedule 10, Regulation and Frequency Response Service for Intermittent Renewable Generator Exports.

Filed Date: 06/16/2009.

Accession Number: 20090618-0114.

Comment Date: 5 p.m. Eastern Time on Tuesday, July 07, 2009.

Docket Numbers: ER09-1320-000.

Applicants: Blackstone Wind Farm, LLC.

Description: Blackstone Wind Farm, LLC submits petition for order accepting market-based rate tariff for filing and granting waivers and blanket approvals.

Filed Date: 06/19/2009.

Accession Number: 20090622-0194.

Comment Date: 5 p.m. Eastern Time on Friday, July 10, 2009.

Docket Numbers: ER09-1321-000.

Applicants: Blue Canyon Windpower V, LLC.

Description: Blue Canyon Windpower V, LLC submits petition for order accepting market-based rate tariff for filing and granting waivers and blanket approvals.

Filed Date: 06/19/2009.

Accession Number: 20090622-0195.

Comment Date: 5 p.m. Eastern Time on Friday, July 10, 2009.

Docket Numbers: ER09-1322-000.

Applicants: Meadow Lake Wind Farm, LLC.

Description: Meadow Lake Wind Farm, LLC submits petition for order accepting market-based rate tariff for filing and granting waivers and blanket approvals.

Filed Date: 06/22/2009.

Accession Number: 20090622-0196.

Comment Date: 5 p.m. Eastern Time on Monday, July 13, 2009.

Docket Numbers: ER09-1323-000.

Applicants: Lost Lakes Wind Farm, LLC.

Description: Lost Lakes Wind Farm, LLC submits petition for order accepting market-based rate tariff for filing and granting waivers and blanket approvals.

Filed Date: 06/22/2009.

Accession Number: 20090622-0197.

Comment Date: 5 p.m. Eastern Time on Monday, July 13, 2009.

Docket Numbers: ER09-1329-000.

Applicants: NaturEner Power Watch, LLC.

Description: NaturEner Power Watch, LLC submits executed Amended and Restated Coordinated Operating Agreement.

Filed Date: 06/19/2009.

Accession Number: 20090622-0030.

Comment Date: 5 p.m. Eastern Time on Friday, July 10, 2009.

Docket Numbers: ER09-1330-000.

Applicants: PJM Interconnection, LLC.

Description: PJM Interconnection, LLC submits an executed interconnection service agreement entered into among PJM, et al.

Filed Date: 06/19/2009.

Accession Number: 20090622-0029.

Comment Date: 5 p.m. Eastern Time on Friday, July 10, 2009.

Docket Numbers: ER09-1335-000.

Applicants: Idaho Power Company.

Description: Idaho Power Company submits revisions to the Agreement for Interconnection and Transmission Services with Utah Power & Light Company.

Filed Date: 06/19/2009.

Accession Number: 20090622-0125.

Comment Date: 5 p.m. Eastern Time on Friday, July 10, 2009.

Docket Numbers: ER09-1336-000.

Applicants: Pacific Gas and Electric Company.

Description: Pacific Gas and Electric Company submits an unexecuted Large Generator Interconnection Agreement for the interconnection of PG&E's replacement generation facilities at the Humboldt Bay Re-Powering Project.

Filed Date: 06/22/2009.

Accession Number: 20090622-0186.

Comment Date: 5 p.m. Eastern Time on Monday, July 13, 2009.

Docket Numbers: ER09-1337-000.

Applicants: Southern California Edison Company.

Description: Southern California Edison Company submits Third Revised Sheet 7 et al. to FERC Electric Tariff, First Revised Volume 5.

Filed Date: 06/22/2009.

Accession Number: 20090623-0081.

Comment Date: 5 p.m. Eastern Time on Monday, July 13, 2009.

Docket Numbers: ER09-1338-000.

Applicants: Southwest Power Pool, Inc.

Description: Southwest Power Pool, Inc submits First Revised Sheet 1039 et al. to FERC Electric Tariff, Fifth Revised Volume 1 to its Open Access Transmission Tariff, to be effective 8/21/09.

Filed Date: 06/22/2009.

Accession Number: 20090623-0080.

Comment Date: 5 p.m. Eastern Time on Monday, July 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-15865 Filed 7-6-09; 8:45 am]

BILLING CODE 6717-01-P